DEPARTMENT OF COMMERCE

International Trade Administration

[A-533-809]

Forged Stainless Steel Flanges from India: Extension of Time Limit for Preliminary Results of Antidumping Duty Administrative Review

AGENCY: Import Administration, International Trade Administration, Department of Commerce.

ACTION: Notice of Extension of Time Limit for Preliminary Results of Antidumping Duty Administrative Review.

EFFECTIVE DATE: October 25, 2002.

FOR FURTHER INFORMATION CONTACT: Helen Kramer at (202) 482-0405 (Snowdrop Trading, Pvt. Ltd.), Michael Ferrier at (202) 482-1394 (Isibars, Ltd.) Shireen Pasha at (202) 482-0193 (Echjay Forgings Ltd./Pushpaman Exports), or Dena Aliadinov at (202) 482-3362 (Viraj Forgings, Ltd.), Import Administration, International Trade Administration, U.S. Department of Commerce, 14th Street and Constitution Ave, NW, Washington, DC 20230.

SUPPLEMENTARY INFORMATION:

Statutory Time Limits

Section 751(a)(3)(A) of the Tariff Act of 1930, as amended (“the Act”), requires the Department of Commerce (“the Department”) to make a preliminary determination within 245 days after the last day of the anniversary month of an order for which a review is requested, and a final determination within120 days after the date on which the preliminary determination is published. However, if it is not practicable to complete the review within these time periods, section 751(a)(3)(A) of the Act allows the Department to extend the time limit for the preliminary determination to a maximum of 365 days and for the final determination to 180 days (or 300 days if the Department does not extend the time limit for the preliminary determination) from the date of publication of the preliminary determination.

Background

On March 27, 2002, the Department initiated an administrative review of the antidumping duty order on forged stainless steel flanges from India for the following companies: Metal Forging Rings & Bearings; Snowdrop Trading, Pvt. Ltd.; Viraj Group; Bhansali Ferromet Pvt. Ltd.; Echjay Forgings Ltd./Pushpaman Exports; Isibars, Ltd.; Panchmahal Steel, Ltd.; Patheja Forgings & Auto Parts, Ltd.; and Viraj Forgings, Ltd. See Initiation of Antidumping and Countervailing Duty Administrative Reviews and Requests for Revocations in Part, 67 FR 14696 (March 27, 2002). The Department received timely responses from Snowdrop Trading, Pvt. Ltd. (“Snowdrop”); Echjay Forgings Ltd./Pushpaman Exports (“Echjay”); Isibars, Ltd. (“Isibars”); and Viraj Forgings, Ltd. (“Viraj”) (Viraj is part of the Viraj Group). The period of review (POR) is February 1, 2001, through January 31, 2002. The preliminary results are currently due on October 31, 2002.

Extension of Time Limit for Preliminary Results of Review

The instant review involves procedural difficulties that necessitate a greater amount of time in order to preliminarily complete this review, including the number of companies under review; the inability of one of the companies to meet the Department's deadlines for responses to the questionnaire due to a natural disaster; the delay in obtaining financial statements because the companies' fiscal years ends in March; the lack of legal representation for two companies; and the involvement of two of the companies under review in simultaneous antidumping proceedings. Because of these issues, we find it is not practicable to complete this review within the initial time limits mandated by section 751(a)(3)(A) of the Act. Therefore, we are fully extending the due date for the preliminary results to 365 days after the last day of the anniversary month of the antidumping order, which is February 28, 2003. The final results will continue to be 120 days after the date the preliminary results are issued.

This extension of the time limit is in accordance with section 751(a)(3)(A) of the Act and 19 CFR 351.213(h)(2).

Dated: October 18, 2002.
Joseph A. Spetrini,
Deputy Assistant Secretary for Import Administration, Group III.

[FR Doc. 02-27260 Filed 10-24-02; 8:45 am]

BILLING CODE 3510-DS-S